UNITED STATES INSTITUTE OF PEACE

Notice of Sunshine Act Meeting

Date/Time: Wednesday, June 13, 2007 (9 a.m.-8 p.m.) Thursday, June 14, 2007 (9:30 a.m.-4 p.m.)

Location: NDU—National War College, Roosevelt Hall, Ft. McNair, 300 5th Avenue, Washington, DC.

Status: Open Session—Portions may be closed pursuant to Subsection (c) of Section 552(b) of Title 5, United States Code, as provided in subsection 1706(h)(3) of the United States Institute of Peace Act, Public Law 98-525.

Agenda: June 2007 Board Meeting; Approval of Minutes of the One Hundred Twenty-Sixth Meeting (March 12, 2007) of the Board of Directors; Chairman's Report; President's Report; Program Updates; Selection of National Peace Essay Contest Winners; Selection of Peace Scholars; Other General Issues.

Contact: Tessie F. Higgs, Executive Office, Telephone: (202) 429-3836.

Dated: May 22, 2007.
Patricia P. Thompson,
Executive Vice President, United States Institute of Peace.

[FR Doc. 07-2648 Filed 5-24-07; 11:09 am]

BILLING CODE 6820-AR-M